DEPARTMENT OF AGRICULTURE

Forest Service

Southwest Idaho Resource Advisory Committee

AGENCY: Forest Service, USDA.

ACTION: Notice of meeting.

SUMMARY: The Southwest Idaho Resource Advisory Committee (RAC) will meet in Boise, Idaho. The RAC is authorized under the Secure Rural Schools and Community Self-Determination Act of 2000, (the Act) (Pub. L. 110-343) and operates in compliance with the Federal Advisory Committee Act (FACA) (Pub. L. 92-463). The purpose of the RAC is to improve collaborative relationships and to provide advice and recommendations to the Forest Service concerning projects and funding consistent with Title II of the Act. The meeting is open to the public. The purpose of the meeting is review Title II project status and adjustments related to Title II spending availability.

DATES: The meeting will be held Thursday, May 30, 2013, at 10:00 a.m. (MDT).

ADDRESSES: The meeting will be held at Idaho Department of Fish and Game Headquarters, Trophy Room, 600 South Walnut Street, Boise, Idaho. Written comments may be submitted as described under Supplementary Information. All comments, including names and addresses when provided are placed in the record and are available for public inspection and copying. The public may inspect comments received at the Payette National Forest, New Meadows Ranger District, 3674 Highway 95, New Meadows, Idaho 83654. Please call ahead to Kim Pierson, Designated Forest Official by phone at (208) 347-0301 to facilitate entry into the building to view comments.

FOR FURTHER INFORMATION CONTACT: Kim Pierson, Designated Forest Official, Payette National Forest, New Meadows Ranger District at (208) 347-0301, or by email to kpierson@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: Review Title II project status and adjustments related to Title II spending availability. Anyone who would like to bring related matters to the attention of the RAC may file written statements with the RAC staff before the meeting. Written comments and requests for time for oral comments must be sent to Kim Pierson, Designated Forest Official, Payette National Forest, New Meadows Ranger District by email to kpierson@fs.fed.us or via facsimile to (208) 347-0309.

Meeting Accommodations: If you require sign language interpreting, assistive listening devices or other reasonable accommodation please request this in advance of the meeting by contacting the person listed in the section titled, “For Further Information Contact”. All reasonable accommodation requests are managed on a case-by-case basis.

Dated: April 18, 2013.
Keith B. Lannom,
Forest Supervisor, Payette National Forest.

[FR Doc. 2013-09717 Filed 4-24-13; 8:45 am]

BILLING CODE 3410-11-P